DEPARTMENT OF HOMELAND SECURITY

Federal Emergency Management Agency

Agency Information Collection Activities: Proposed Collection; Comment Request

AGENCY: Federal Emergency Management Agency, DHS.

ACTION: Notice; 60-day notice and request for comments; Extension, without change, of a currently approved collection, OMB Number 1660-0040, FEMA Form 81-93.

SUMMARY: The Federal Emergency Management Agency, as part of its continuing effort to reduce paperwork and respondent burden, invites the general public and other Federal agencies to take this opportunity to comment on a continuing information collection. In accordance with the Paperwork Reduction Act of 1995 this notice seeks comments concerning renewal of the Standard Flood Hazard Determination Form, FEMA Form 81-93.

SUPPLEMENTARY INFORMATION: FEMA is seeking to extend the use of the Standard Flood Hazard Determination Form, required by Title V, Section 528 of the National Flood Insurance Reform Act of 1994 (NFIRA). The form records the determination of whether a structure is located within an identified Special Flood Hazard Area and whether flood insurance is available. Federally-regulated lender institutions are mandated to complete this form for any loan made, increased, extended, renewed, or purchased.

Collection of Information

Title: Standard Flood Hazard Determination Form.

Type of Information Collection: Extension, without change, of a currently approved collection.

OMB Number: 1660-0040.

Form Numbers: FEMA Form 81-93.

Abstract: On September 23, 1994, the President signed the Riegle Community Development and Regulatory Improvement Act of 1994. Title V of this Act is the National Flood Insurance Reform Act (NFIRA). Section 528 of the NFIRA requires that FEMA develop a standard hazard determination form for recording the determination of whether a structure is located within an identified a Special Flood Hazard Area and whether flood insurance is available. Section 528 of the NFIRA also requires the use of this Form by regulating lending institutions, federal agent lenders, the Federal National Association, the Federal Home Loan Mortgage Corporation, and the Government National Mortgage Association for any loan made, increased, extended, renewed, or purchased by these entities.

Affected Public: Business or other for-profit.

Estimated Total Annual Burden Hours: 10,890,000 hours.

Annual Burden Hours
Data collection activity/instrument | Number of respondents: (A) | Frequency of responses: (B) | Hour burden per response: (C) | Annual responses: (D) = (A × B) | Total annual burden hours: (C × D)
FEMA Forms 81-93 | 33,000,000 | 1 | 0.33 (20 minutes) | 33,000,000 | 10,890,000
Total | 33,000,000 | 1 | 0.33 | 33,000,000 | 10,890,000

Estimated Cost: The estimated annualized cost to respondents based on wage rate categories is $295,119,000.00. The estimated annual cost to the Federal Government is $100,200.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before July 28, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Ava Hammond, Program Specialist, Mitigation Division at (202) 646-7045 for additional information. You may contact the Records Management Division for copies of the proposed collection of information at facsimile number (202) 646-3347 or e-mail address: FEMA-Information-Collections@dhs.gov.

Dated: May 15, 2008.
John A. Sharetts-Sullivan,
Director, Records Management Division, Office of Management, Federal Emergency Management Agency, Department of Homeland Security.

[FR Doc. E8-11998 Filed 5-28-08; 8:45 am]

BILLING CODE 9110-11-P